DEPARTMENT OF JUSTICE

Drug Enforcement Administration

[Docket No. DEA-392]

Importer of Controlled Substances Registration: Mallinckrodt, LLC

ACTION: Notice of registration.

SUMMARY: Mallinckrodt, LLC applied to be registered as an importer of certain basic classes of controlled substances. The Drug Enforcement Administration (DEA) grants Mallinckrodt, LLC registration as an importer of those controlled substances.

SUPPLEMENTARY INFORMATION: By notice dated February 5, 2015, and published in the Federal Register on February 11, 2015, 80 FR 7634, Mallinckrodt, LLC, 3600 North Second Street, St. Louis, Missouri 63147 applied to be registered as an importer of certain basic classes of controlled substances. No comments or objections were submitted for this notice. Comments and requests for hearings on applications to import narcotic raw material are not appropriate. 72 FR 3417 (January 25, 2007).

The DEA has considered the factors in 21 U.S.C. 823, 952(a) and 958(a) and determined that the registration of Mallinckrodt, LLC to import the basic classes of controlled substances is consistent with the public interest and with United States obligations under international treaties, conventions, or protocols in effect on May 1, 1971. The DEA investigated the company's maintenance of effective controls against diversion by inspecting and testing the company's physical security systems, verifying the company's compliance with state and local laws, and reviewing the company's background and history.

Therefore, pursuant to 21 U.S.C. 952(a) and 958(a), and in accordance with 21 CFR 1301.34, the above-named company is granted registration as an importer of the basic classes controlled substances:

Controlled substance | Schedule
Phenylacetone (8501) | II
Coca Leaves (9040) | II
Opium, raw (9600) | II
Poppy Straw Concentrate (9670) | II

The company plans to import the listed controlled substances for the manufacture of controlled substances in bulk for distribution to its customers.

In reference to Phenylacetone (8501), the company plans to import the controlled substance for the bulk manufacture of amphetamine products for sale to its customers.

Dated: May 15, 2015.
Joseph T. Rannazzisi,
Deputy Assistant Administrator.

[FR Doc. 2015-12325 Filed 5-20-15; 8:45 am]

BILLING CODE